FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

World Connection Express, Inc., 400 S. Atlantic Blvd., Suite 311, Monterey Park, CA 91754. Officer: Melody Juanzhi Hoong, C.E.O. (Qualifying Individual).

Trans Global Auto Logistics, Inc., 2454 NW Dallas Street, Grand Prairie, TX 75050. Officer: Sandra Kay Lester, President, (Qualifying Individual).

International Port Services, Inc. dba Interport, 8390 NW 53 Street, Suite 220, Miami, FL 33166. Officers: Anthony J. Pupo, Managing Director (Qualifying Individual), Esteban A. Szalay, President.

JP Express Shipping, 1894 Washington Avenue, Bronx, NY 10457. Officer: Felipe Vasquez, President, (Qualifying Individual).

Airmar Cargo Services, Inc., 8376 NW 64th Street, Miami, FL 33166. Officer: Herman Cordero, President, (Qualifying Individual).

J.G. River Shipping, 948 Columbus Avenue, New York, NY 10025-3109. Juan Garcia, Sole Proprietor.

Non-Vessel Operating Common Carrier and Ocean Freight Forwarder Transportation Intermediary Applicants:

Sea-Line-Cargo, Inc. 135 Post Avenue, 1st Floor, New York, NY 10034. Officer: Edickson Burgos, President, (Qualifying Individual).

OWS Logistics, Inc., 1000 Corporate Center Dr., Suite 120, Monterey Park, CA 91754. Officers: Danny Tam, Secretary, (Qualifying Individual), Hoi-Sing Tong, President.

Marisol International LLC, 1645 W Republic Road, Suite B-2, Springfield, MO 65807, Officers: Arthur C. Vogt, President, (Qualifying Individual), James T. Simmons, Vice President.

American Baggage & Box Transport, 236 Pleasant Street, Methuen, MA 01844. Officer: Harry Gibley, President, (Qualifying Individual).

Ocean Freight Forwarder—Ocean Transportation Intermediary Applicant:

GIF Services, Inc., 2525 Brunswick Avenue, Linden, NJ 07036. Officers: John Callea, Vice President, (Qualifying Individual), Lynne Callea, President.

Dated: November 15, 2002.
Bryant L. VanBrakle,
Secretary.

[FR Doc. 02-29506 Filed 11-19-02; 8:45 am]

BILLING CODE 6730-01-P